NUCLEAR REGULATORY COMMISSION

[Docket Nos. STN 50-454 and STN 50-455]

Exelon Generation Company, LLC; Notice of Withdrawal of Application for Amendment to Facility Operating Licenses NPF-37 and NPF-66

The U.S. Nuclear Regulatory Commission (the Commission) has granted the request of Exelon Generation Company, LLC (the licensee) to withdraw its June 16, 2006, application for proposed amendment to Facility Operating License Nos. NPF-37 and NPF-66 for the Byron Station, Unit Nos. 1 and 2, located in Ogle County, Illinois.

The proposed amendment would have revised the Updated Final Safety Analysis Report pertaining to tornado generated missile protection for certain systems and components.

The Commission had previously issued a Notice of Consideration of Issuance of Amendment published in the Federal Register on November 21, 2006 (17 FR 67393). However, by letter dated July 24, 2007, the licensee withdrew the proposed change.

For further details with respect to this action, see the application for amendment dated June 16, 2006, and the licensee's letter dated July 24, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 6th day of August 2007.
For the Nuclear Regulatory Commission.
Robert F. Kuntz,
Project Manager, Plant Licensing Branch III-2, Division of Operating Reactor Licensing, Office of Nuclear Reactor Regulation.

[FR Doc. E7-16148 Filed 8-15-07; 8:45 am]

BILLING CODE 7590-01-P